COMMITTEE FOR PURCHASE FROM PEOPLE WHO ARE BLIND OR SEVERELY DISABLED

Procurement List Deletions

AGENCY: Committee for Purchase From People Who Are Blind or Severely Disabled.

ACTION: Additions to and Deletions from Procurement List.

SUMMARY: This action deletes from the Procurement List products previously furnished by such agencies.

EFFECTIVE DATE: April 2, 2006.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, Telephone: (703) 603-7740, Fax: (703) 603-0655, or e-mail SKennerly@jwod.gov.

SUPPLEMENTARY INFORMATION:

Deletions

On January 6, 2006, the Committee for Purchase From People Who Are Blind or Severely Disabled published notice (71 FR 909) of proposed deletions to the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Product/NSNs: Bag, T-Shirt Style & Bag, Produce, Star Bottom.

NSN: 8105-00-NIB-1046—Bag, Produce, Star Bottom.

NPA: Envision, Inc., Wichita, Kansas.

Contracting Activity: Defense Commissary Agency, Fort Lee, Virginia.

Product/NSNs: Pen, Rollerball, Executive and Refill.

NSN: 7520-01-424-4882—Pen, Rollerball, Executive and Refill.

NPA: San Antonio Lighthouse for the Blind, San Antonio, Texas.

Contracting Activity: Office Supplies & Paper Products Acquisition Center, New York, New York.

Sheryl D. Kennerly,
Director, Information Management.

[FR Doc. E6-3022 Filed 3-2-06; 8:45 am]

BILLING CODE 6353-01-P